COMMITTEE FOR PURCHASE FROM PEOPLE WHO ARE BLIND OR SEVERELY DISABLED

Procurement List; Proposed Addition and Deletions

AGENCY: Committee for Purchase From People Who Are Blind or Severely Disabled.

ACTION: Proposed Addition to and Deletions from the Procurement List.

SUMMARY: The Committee is proposing to add a service to the Procurement List that will be furnished by nonprofit agency employing persons who are blind or have other severe disabilities and, deletes a product and services previously furnished by such agencies.

DATES: Comments must be received on or before December 4, 2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Addition

If the Committee approves the proposed addition, the entities of the Federal Government identified in this notice will be required to procure the service listed below from nonprofit agency employing persons who are blind or have other severe disabilities.

The following service is proposed for addition to the Procurement List for production by the nonprofit agency listed:

Service

Service Type: Janitorial/Custodial and Related Service.

Mandatory for: GSA PBS Region 10, Pioneer Courthouse, 700 SW 6th Avenue, Portland, OR.

Mandatory Source(s) of Supply: Portland Habilitation Center, Inc., Portland, OR.

Contracting Activity: GSA/PUBLIC BUILDINGS SERVICE, Auburn, WA.

Deletions

The following product and services are proposed for deletion from the Procurement List:

Product

NSN(s)—Product Name(s): 8460-01-433-8398—Briefcase, Black.

Mandatory Source(s) of Supply: Helena Industries, Inc., Helena, MT.

Contracting Activity: General Services Administration, Fort Worth, TX.

Services

Service Type: Food Service Attendant.

Mandatory for: Kirtland Air Force Base, Kirtland AFB, NM.

Mandatory Source(s) of Supply: LifeROOTS, Inc., Albuquerque, NM.

Contracting Activity: Dept of the Air Force, FA7014 AFDW PK.

Service Type: Facilities Maintenance Service.

Mandatory for: Buckley Annex and Building 667, Buckley AFB, CO.

Mandatory Source(s) of Supply: Professional Contract Services, Inc., Austin, TX.

Contracting Activity: Dept of the Air Force, FA2543 460 CONF LGC.

Barry S. Lineback,
Director, Business Operations.

[FR Doc. 2016-26731 Filed 11-3-16; 8:45 am]

BILLING CODE 6353-01-P